DEPARTMENT OF HEALTH AND HUMAN SERVICES

Health Resources and Services Administration

Living Organ Donation Reimbursement Program/Supplemental Award

AGENCY: Health Resources and Services Administration (HRSA), Department of Health and Human Services.

ACTION: Notice of supplemental funding.

SUMMARY: HRSA provided a supplemental award of $1.7 million to the sole Living Organ Donation Reimbursement Program (LODRP) cooperative agreement recipient—Mayo Clinic Arizona—to enable the recipient to more effectively address living donors' needs and accommodate an anticipated increase in the number of applicants to the program.

FOR FURTHER INFORMATION CONTACT: Allison Hutchings, Senior Public Health Analyst, Health Systems Bureau, HRSA, at livingdonorsupport@hrsa.gov or 301-443-3300.

SUPPLEMENTARY INFORMATION:

Intended Recipient of the Award: LODRP cooperative agreement recipient for Fiscal Year 2025, as listed in Table 1.

Amount: One award of $1,700,000.

Project Period: September 1, 2025 to August 31, 2028.

Assistance Listing Number: 93.134.

Award Instrument: Cooperative Agreement.

Authority: 42 U.S.C. 274f (Section 377 of the Public Health Service (PHS) Act, as amended)

Table 1—Recipient(s) and Award Amount(s)
Grant No. | Award recipient name | State | Award amount
U13HS55158 | Mayo Clinic Arizona | AZ | $1,700,000

Justification: As of September 2025, there were over 100,000 patients on the organ transplant wait list waiting for a kidney and/or liver. HRSA LODRP provides financial assistance to people who wish to donate their kidney and/or part of their liver, but who might otherwise not be able to donate due to financial hardship, thereby increasing access to life-saving organs. The supplemental funding will provide the cooperative agreement recipient with flexibility to make programmatic changes to better address living organ donors' needs (for example, increasing the reimbursement cap for living organ donors with longer recovery times) and accommodate the anticipated increase in applicants to the program as a result of expanded outreach by the Public Education for Living Organ Donation Reimbursement cooperative agreement recipient.

HRSA awarded the sole LODRP cooperative agreement recipient—Mayo Clinic Arizona—$1.7 million as noted in Table 1.

Thomas J. Engels,
Administrator.

[FR Doc. 2025-18648 Filed 9-24-25; 8:45 am]

BILLING CODE 4165-15-P